SOCIAL SECURITY ADMINISTRATION

[Docket No: SSA-2015-0035]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB); Office of Management and Budget, Attn: Desk Officer for SSA, Fax: 202-395-6974, Email address: OIRA_Submission@omb.eop.gov.

(SSA); Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2015-0035].

I. The information collections below are pending at SSA. SSA will submit them to OMB within 60 days from the date of this notice. To be sure we consider your comments, we must receive them no later than August 24, 2015. Individuals can obtain copies of the collection instruments by writing to the above email address.

1. Physician's/Medical Officer's Statement of Patient's Capability to Manage Benefits—20 CFR 404.2015 and 416.615—0960-0024. SSA appoints a representative payee in cases where we determine beneficiaries are not capable of managing their own benefits. In those instances, we require medical evidence to determine the beneficiaries' capability of managing or directing their benefit payments. SSA collects medical evidence on Form SSA-787 to (1) determine beneficiaries' capability or inability to handle their own benefits, and (2) assist in determining the beneficiaries' need for a representative payee. The respondents are beneficiaries' physicians, or medical officers of the institution in which the beneficiary resides.

Type of Request: Revision of an OMB-approved information collection.

Modality of completion | Number of respondents | Frequency of response | Average burden per response (minutes) | Estimated total annual burden (hours)
SSA-787 | 120,000 | 1 | 10 | 20,000

2. State Supplementation Provisions: Agreement; Payments—20 CFR 416.2095-416.2098, 20 CFR 416.2099—0960-0240. Section 1618 of the Social Security Act (Act) requires those states administering their own supplementary income payment program(s) to demonstrate compliance with the Act by passing Federal cost-of-living increases on to individuals who are eligible for state supplementary payments, and informing SSA of their compliance. In general, states report their supplementary payment information annually by the maintenance-of-payment levels method. However, SSA may ask them to report up to four times in a year by the total-expenditures method. Regardless of the method, the states confirm their compliance with the requirements, and provide any changes to their optional supplementary payment rates. SSA uses the information to determine each state's compliance or noncompliance with the pass-along requirements of the Act to determine eligibility for Medicaid reimbursement. If a state fails to keep payments at the required level, it becomes ineligible for Medicaid reimbursement under Title XIX of the Act. Respondents are state agencies administering supplemental programs.

Type of Request: Extension of an OMB-approved information collection.

Modality of completion | Number of respondents | Frequency of response | Average burden per response (minutes) | Estimated total annual burden (hours)
Total Expenditures | 7 | 4 | 60 | 28
Maintenance of Payment Levels | 26 | 1 | 60 | 26
Total | 33 |  |  | 54

3. Surveys in Accordance with E.O. 12862 for the Social Security. Administration—0960-0526. Under the auspices of E. O. 12862, Setting Customer Service Standards, SSA conducts multiple customer satisfaction surveys each year. These voluntary customer satisfaction assessments include paper, Internet, and telephone surveys; mailed questionnaires; and customer comment cards. The purpose of these questionnaires is to assess customer satisfaction with the timeliness, appropriateness, access, and overall quality of existing SSA services and proposed modifications or new versions of services. The respondents are recipients of SSA services (including most members of the public), professionals, and individuals who work on behalf of SSA beneficiaries.

Type of Request: Extension of an OMB-approved information collection.

| Number of respondents (burden for all activities within that year) | Frequency of response | Range of response times (minutes) | Burden (burden for all activities within that year; reported in hours)
Year 1 | 7,094,640 | 1 | 3-30 | 1,173,904
Year 2 | 7,100,140 | 1 | 3-30 | 1,174,904
Year 3 | 7,105,640 | 1 | 3-30 | 1,176,004
Totals | 21,300,420 | − | − | 5,722,003

1. Application for Circuit Court Law—20 CFR 404.985 & 416.1458—0960-0581. Persons claiming an acquiescence ruling (AR) would change SSA's prior determination or decision must submit a written readjudication request with specific information. SSA reviews the information in the request to determine if the issues stated in the AR pertain to the claimant's case, and if the claimant is entitled to readjudication. If readjudication is appropriate, SSA considers the issues the AR covers. Any new determination or decision is subject to administrative or judicial review as specified in the regulations. This information collection request (ICR) is for the information claimants must provide to request readjudication. Respondents are claimants for Social Security benefits and Supplemental Security Income (SSI) payments who request readjudication.

Type of Request: Extension of an OMB-approved information collection.

Modality of completion | Number of respondents | Frequency of response | Average burden per response (minutes) | Estimated total annual burden (hours)
AR-based Readjudication Requests | 10,000 | 1 | 17 | 2,833

2. The Ticket to Work and Self-Sufficiency Program—20 CFR 411—0960-0644. SSA's Ticket to Work (TTW) Program transitions Social Security Disability Insurance and SSI recipients toward independence by allowing them to receive Social Security payments while maintaining employment under the auspices of the program. SSA uses service providers, called employment networks (ENs), to supervise participant progress through the stages of TTW Program participation, such as job searches and interviews, progress reviews, and changes in ticket status. ENs can be private for-profit and nonprofit organizations, as well as state vocational rehabilitation agencies (VRs). SSA and the ENs utilize the TTW program manager to operate the TTW Program and exchange information about participants. For example, the ENs use the program manager to provide updates on tasks such as selecting a payment system or requesting payments for helping the beneficiary achieve certain work goals. Since the ENs are not PRA-exempt, the multiple information collections within the TTW program manager require OMB approval, and we clear them under this ICR. Most of the categories of information in this ICR are necessary for SSA to: (1) comply with the Ticket to Work legislation; and (2) provide proper oversight of the program. SSA collects this information through several modalities, including forms, electronic exchanges, and written documentation. The respondents are the ENs or state VRs, as well as SSDI beneficiaries and blind or disabled SSI recipients working under the auspices of the TTW Program.

Type of Request: Revision of an OMB-approved information collection.

Modality of completion | Number of respondents | Frequency of response | Average burden per response (minutes) | Estimated total annual burden (hours)
a) 20 CFR 411.140(d)(2)—Interactive Voice Recognition Telephone | 6,428 | 1 | 2.5 | 268
a) 20 CFR 411.140(d)(2)—Portal | 25,713 | 1 | 1.25 | 536
a) 20 CFR 411.140(d)(3); 411.325(a); 411.150(b)(3)—SSA-1365 | 948 | 1 | 15 | 237
a) 20 CFR 411.140(d)(3); 411.325(a); 411.150(b)(3)—SSA-1365 Portal | 3,792 | 1 | 11 | 695
a) 20 CFR 411.140(d)(3); 411.325(a); 411.150(b)(3)—SSA-1370 | 1,956 | 1 | 60 | 1,956
a) 20 CFR 411.140(d)(3); 411.325(a); 411.150(b)(3)—SSA-1370 Portal | 5,868 | 1 | 10 | 978
a) 20 CFR 411.166; 411.170(b)—Electronic File Submission | 40,324 | 1 | 5 | 3,360
b) 20 CFR 411.145; 411.325 | 2,494 | 1 | 15 | 624
b) 20 CFR 411.145; 411.325—Portal | 7,481 | 1 | 11 | 1,372
b) 20 CFR 411.535(a)(1)(iii)—Data Sharing/Portal | 8,505 | 1 | 5 | 709
c) 20 CFR 411.192(b)&(c) | 6 | 1 | 30 | 3
c) 20 CFR 411.200(b)—SSA-1375 | 112,362 | 1 | 15 | 28,091
c) 20 CFR 411.200(b)—Portal | 64,824 | 1 | 5 | 5,402
c) 20 CFR 411.210(b) | 41 | 1 | 30 | 21
c)20 CFR 411.200(b) Wise Webinar Registration Page | 24,000 | 1 | 3 | 1,200
c) 20 CFR 411.200(b) Virtual Job Fair Registration | 9,500 | 1 | 10 | 1,583
d) 20 CFR 411.365; 411.505; 411.515 | 6 | 1 | 10 | 1
e) 20 CFR 411.325(d); 411.415 | 1 | 1 | 480 | 8
f) 20 CFR 411.575—SSA-1389; SSA-1391; SSA-1393; SSA-1396; SSA-1398; SSA-1399 | 2,805 | 1 | 40 | 1,870
f) 20 CFR 411.575—Portal | 42,075 | 1 | 22 | 15,428
f) 20 CFR 411.575—Automatic Payments | 11,220 | 1 | 0 | 0
f) 20 CFR 411.560—SSA-1401 | 100 | 1 | 20 | 33
g) 20 CFR 411.325(f) | 1,371 | 1 | 45 | 1,028
h) 20 CFR 411.435; 411.615; 411.625 | 2 | 1 | 120 | 4
i) 20 CFR 411.320—SSA-1394 | 52 | 1 | 10 | 9
i) 20 CFR 411.320—SSA-1394 Portal | 158 | 1 | 5 | 13
Totals | 372,032 |  |  | 65,429

II. SSA submitted the information collections below to OMB for clearance. Your comments regarding the information collections would be most useful if OMB and SSA receive them 30 days from the date of this publication. To be sure we consider your comments, we must receive them no later than July 23, 2015. Individuals can obtain copies of the OMB clearance packages by writing to OR.Reports.Clearance@ssa.gov.

1. Statement of Claimant or Other Person—20 CFR 404.702 & 416.570—0960-0045. SSA uses Form SSA-795 in special situations where there is no authorized form or questionnaire, yet we require a signed statement from the applicant, claimant, or other persons who have knowledge of facts, in connection with claims for Social Security benefits or SSI. The information we request on the SSA-795 is of sufficient importance that we need both a signed statement and a penalty clause. SSA uses this information to process, in addition to claims for benefits, issues about continuing eligibility; ongoing benefit amounts; use of funds by a representative payee; fraud investigation; and a myriad of other program-related matters. The most typical respondents are applicants for Social Security, SSI, or recipients of these programs. However, respondents also include friends and relatives of the involved parties, coworkers, neighbors, or anyone else in a position to provide information pertinent to the issue(s).

Type of Request: Revision of an OMB-approved information collection.

Modality of completion | Number of respondents | Frequency of response | Average burden per response (minutes) | Estimated total annual burden (hours)
SSA-795 | 305,500 | 1 | 15 | 76,375

2. Disability Report—Adult—20 CFR 404.1512 and 416.912—0960-0579. State Disability Determination Services (DDS) use the SSA-3368 and its electronic versions to determine if adult disability applicants' impairments are severe and, if so, how the impairments affect the applicants' ability to work. This determination dictates whether the DDSs and SSA will find the applicant to be disabled and entitled to SSI payments. The respondents are applicants for Title II disability benefits or Title XVI SSI payments.

Type of Request: Revision of an OMB-approved information collection.

Modality of completion | Number of respondents | Frequency of response | Average burden per response (minutes) | Estimated total annual burden (hours)
SSA-3368 (Paper form) | 7,571 | 1 | 90 | 11,357
Electronic Disability Collection System (EDCS) | 2,484,231 | 1 | 90 | 3,726,346
i3368 (Internet) | 1,060,360 | 1 | 90 | 1,590,540
Totals | 3,552,162 |  |  | 5,328,243

3. Request for Internet Services—Authentication; Automated Telephone Speech Technology—Knowledge-Based Authentication (RISA-KBA)—20 CFR 401.45—0960-0596. The Request for Internet Services and 800# Automated Telephone Services (RISA) Knowledge-Based Authentication (KBA) is one of the authentication methods SSA uses to allow individuals access to their personal information through our Internet and Automated Telephone Services. SSA asks individuals and third parties who seek personal information from SSA records, or who register to participate in SSA's online business services, to provide certain identifying information. As an extra measure of protection, SSA asks requestors who use the Internet and telephone services to provide additional identifying information unique to those individuals so SSA can authenticate their identities before releasing personal information. The respondents are current beneficiaries who are requesting personal information from SSA, and individuals and third parties who are registering for SSA's online business services.

This is a correction notice. SSA published this information collection as a revision on April 9, 2015 at 80 FR 19102. Since we are not revising the Privacy Act Statement, this is now an extension of an OMB-approved information collection.

Type of Request: Extension of an OMB-approved information collection.

Modality of completion | Number of respondents | Frequency of response | Average burden per response (minutes) | Estimated total annual burden (hours)
Internet Requestors | 10,373,917 | 1 | 2.5 | 432,247
Telephone Requestors | 1,703,367 | 1 | 4 | 113,558
* Change of Address (on hold) | 1 |  |  | 1
Totals | 12,077,286 |  |  | 545,806
* Reducing the burden to a one-hour placeholder burden; Screen Splash and Change of Address applications are on hold.

4. Application for Special Benefits for World War II Veterans—20 CFR 408, Subparts B, C, and D—0960-0615. Title VIII of the Act (Special Benefits for Certain World War II Veterans) allows qualified World War II veterans residing outside the United States to receive monthly payments. These regulations establish the requirements individuals need to qualify for and become entitled to Special Veterans Benefits (SVB). SSA uses Form SSA-2000-F6 to elicit the information we need to determine entitlement to SVB. This ICR comprises the relevant regulations and Form SSA-2006-F6. The respondents are individuals applying for SVB under Title VIII of the Act.

Type of Request: Revision of an OMB-approved information collection.

Regulations section and modality of completion | Number of respondents | Frequency of response | Average burden per response (minutes) | Total estimated annual burden (hours)
SSA-7 | 50 | 1 | 20 | 17
§ 408.420 (a), (b) | 35 | 1 | 15 | 9
§§ 408.430 & .432 | 33 | 1 | 30 | 17
§ 408.435 (a), (b), (c) | 35 | 1 | 15 | 9
Totals | 153 |  |  | 52

5. Representative Payment Policies Regulation—20 CFR 404.2011(a)(1), 404.2025, 416.611(a)(1), 416.625—0960-0679. Per 20 CFR 404.2011 and 20 CFR 416.611 of the Code of Federal Regulations, if SSA determines it may cause substantial harm for Title II or Title XVI recipients to receive their payments directly, recipients may dispute that decision. To do so, recipients provide SSA with information the agency uses to reevaluate its determination. In addition, our regulations state that after SSA selects a representative payee to receive benefits on a recipient's behalf, the payees provide SSA with information on their continuing relationship and responsibility for the recipients, and explain how they use the recipients' payments. Sections 20 CFR 404.2025 and 20 CFR 416.625 of the Code of Federal Regulations provide a process to follow up with the representative payee to verify payee performance. The respondents are Title II and Title XVI recipients, and their representative payees.

Type of Request: Extension of an OMB-approved information collection.

CFR citation | Number of respondents | Frequency of response | Average burden per response (minutes) | Estimated total annual burden (hours)
404.2011(a)(1); 416.611(a)(1) | 250 | 1 | 15 | 63
404.2025; 416.625 | 3,000 | 1 | 6 | 300
Totals | 3,250 |  |  | 363

Faye I. Lipsky,
Reports Clearance Officer, Social Security Administration.

[FR Doc. 2015-15380 Filed 6-22-15; 8:45 am]

BILLING CODE 4191-02-P